DEPARTMENT OF TRANSPORTATION

Federal Motor Carrier Safety Administration

[Docket No. FMCSA-2018-0347]

Commercial Driver's License Standards: Application for Exemption International Motors, LLC, Formerly Known as Navistar, Inc.

AGENCY: Federal Motor Carrier Safety Administration (FMCSA), Department of Transportation (DOT).

ACTION: Notice of final disposition; renewal of exemption.

SUMMARY: FMCSA announces its decision to renew the exemption granted to International Motors, LLC (International), formally known as Navistar, Inc., from the commercial driver's license (CDL) regulations for one of its commercial motor vehicle (CMV) drivers. The exemption allows Mr. Erik Holma, manager of Drivability Control Systems for Scania AB for International's parent company, TRATON SE, to test drive fleet vehicles on U.S. roads.

DATES: The exemption is effective December 10, 2025 and expires December 10, 2030.

FOR FURTHER INFORMATION CONTACT: Pearlie Robinson, FMCSA Driver and Carrier Operations Division; Office of Carrier, Driver and Vehicle Safety Standards; 202-913-0704; pearlie.robinson@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2018-0347/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to 49 U.S.C. 31315(b)(1). The Agency must publish its decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

Under 49 CFR 383.23, no person shall operate a CMV without having taken and passed knowledge and driving skills tests for a commercial learner's permit or CDL that meet the Federal standards contained in subparts F, G, and H of part 383 for the CMV that person operates or expects to operate. Such drivers are also subject to the controlled substances and alcohol testing requirements of 49 CFR part 382.

Application for Renewal of Exemption

The renewal application from International was described in detail in a Federal Register notice of June 12, 2025, (90 FR 24861) and will not be repeated here as the facts have not changed.

IV. Public Comments

The Agency received one comment in response to International's request to renew its exemption. AWM Associates wrote “[u]ntil there's evidence that Mr. Holma has met the legal requirements for INS, IRS, and the FMCSR, e.g., current DOT physical. Mr. Holma's application should be denied.”

V. FMCSA Decision

Mr. Holma holds a Swedish commercial license, and FMCSA has previously determined that the process for obtaining a Swedish commercial license is comparable to, or as effective as, the requirements of part 383 and adequately assesses the driver's ability to operate CMVs in the United States. FMCSA granted a 5-year exemption to Mr. Holma and four other Swedish drivers on December 27, 2019 (84 FR 71525). That exemption expired on December 27, 2024. Navistar requested a renewal for Mr. Holma only. Additionally in 2019, the Agency granted similar exemptions to International, under its former name Navistar, Inc., for other drivers on two earlier occasions [April 15, 2019 (84 FR 15283); November 21, 2019 (84 FR 64440))]. The Agency has also granted similar exemptions to Daimler Trucks North America for holders of German commercial licenses.¹ The Agency has no record of any CMV incidents indicating a reduction in the safety of operations by the drivers previously granted exemptions, including Mr. Holma himself.

¹ FMCSA granted similar exemptions to Daimler Trucks North America on May 25, 2012 (77 FR 31422); July 22, 2014 (79 FR 42626); March 27, 2015 (80 FR 16511); October 5, 2015 (80 FR 60220); July 12, 2016 (81 FR 45217); July 25, 2016 (81 FR 48496); August 17, 2017 (82 FR 39151), September 10, 2018 (83 FR 45742); April 27, 2022 (87 FR 25081; 87 FR 25083) and other dates.

In response to AWM's comments, the Agency has updated its terms and conditions for this exemption to require International, upon request, to provide proof of Mr. Holma's compliance with the FMCSRs, which includes the driver physical qualification requirements in 49 CFR part 391.

FMCSA therefore concludes that renewing the exemption granted on December 27, 2019, under the terms and conditions listed below, will likely achieve a level of safety that is equivalent to, or greater than, the level of safety achieved absent the exemption.

VI. Exemption Decision

A. Applicability of Exemption

This exemption is applicable to International's driver Erik Holma. This driver is granted an exemption from the CDL requirement in 49 CFR 383.23 to allow him to drive CMVs in the United States without a State-issued CDL. Consequently, this driver is not subject to the drug and alcohol testing requirements of 49 CFR part 382, including the Clearinghouse requirements in subpart G. However, see paragraph 8 of the Terms and Conditions below.

B. Terms and Conditions

When operating under this exemption, International and Mr. Holma are subject to the following terms and conditions:

1. The driver and carrier must comply with all other applicable provisions of the Federal Motor Carrier Safety Regulations (FMCSRs) (49 CFR parts 350-399);

2. Upon request, the carrier must provide proof of compliance with the FMCSRs, to include the driver physical qualification requirements in 49 CFR part 391;

3. International and Mr. Holma must comply with the English language proficiency requirements in 49 CFR 391.11(b)(2);

4. The driver must be in possession of the exemption document and a valid Swedish commercial license;

5. The driver must be employed by and operate the CMV within the scope of his duties for International;

6. At all times while operating a CMV under this exemption, the driver must be accompanied by a holder of a State-issued CDL who is familiar with the routes traveled;

7. International must notify FMCSA in writing within 5 business days of any accident, as defined in 49 CFR 390.5, involving this driver;

8. International must notify FMCSA in writing if the driver is convicted of an offense under § 391.15 of the FMCSRs; and

9. International must implement a drug and alcohol testing program that satisfies the requirements in 49 CFR part 382, subparts A-F, including, but not limited to, all testing requirements and participation in a consortium for random testing. International must require that Mr. Holma be subject to those requirements. International must provide documentation of its drug and alcohol testing program upon request to FMCSA.

C. Preemption

In accordance with 49 U.S.C. 31315(d), as implemented by 49 CFR 381.600, during the period this exemption is in effect, no State shall enforce any law or regulation that conflicts with or is inconsistent with this exemption with respect to a firm or person operating under the exemption.

D. Notification to FMCSA

International must notify FMCSA within 5 business days of any accident (as defined in 49 CFR 390.5), involving any of the motor carrier's CMVs operated under the terms of this exemption. The notification must include the following information:

1. Name of the exemption: “International—Holma”;

2. Name of operating carrier and USDOT number;

3. Date of the crash;

4. City or town, and State, in which the accident occurred, or closest to the crash scene;

5. Driver's name and license number;

6. Co-driver's name and license number;

7. Vehicle number and State license number;

8. Number of individuals suffering physical injury;

9. Number of fatalities;

10. The police-reported cause of the crash, if provided by the enforcement agency;

11. Whether the driver was cited for violation of any traffic laws, motor carrier safety regulations; and

12. The total on-duty time accumulated during the 7 consecutive days prior to the date of the crash, and the total on-duty time and driving time in the work shift prior to the crash.

Reports filed under this provision shall be emailed to MCPSD@DOT.GOV.

VII. Termination

FMCSA does not believe the driver covered by this exemption will experience any deterioration of his safety record. However, the exemption will be rescinded if: (1) International or the driver operating under the exemption fails to comply with the terms and conditions of the exemption; (2) the exemption has resulted in a lower level of safety than was maintained before it was granted; or (3) continuation of the exemption would not be consistent with the goals and objects of 49 U.S.C. 31136(e) and 31315(b).

Derek Barrs,
Administrator.

[FR Doc. 2025-22462 Filed 12-9-25; 8:45 am]

BILLING CODE 4910-EX-P